ENVIRONMENTAL PROTECTION AGENCY

[EPA-HQ-OPP-2022-0223; FRL-12246-01-OCSPP]

Chlorpyrifos; Notice of Receipt of Requests To Voluntarily Amend Registrations To Terminate Asparagus Use

AGENCY: Environmental Protection Agency (EPA).

ACTION: Notice.

SUMMARY: In accordance with the Federal Insecticide, Fungicide and Rodenticide Act (FIFRA), EPA is issuing a notice of receipt of request by Gharda Chemicals International, Inc. (Gharda) to voluntarily amend one chlorpyrifos registration to terminate use on asparagus. EPA intends to grant this request at the close of the comment period for this announcement unless the Agency receives substantive comments within the comment period that would merit further review of the request, or unless the registrant withdraws its request. If, and after, this request is granted, any sale, distribution, or use of the product listed in this notice would need to be consistent with the terms as described in the final cancellation order.

DATES: Comments must be received on or before October 16, 2024, whichever occurs later.

ADDRESSES: Submit your comments, identified by docket identification (ID) number EPA-HQ-OPP-2022-0223 through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of a request from Gharda to terminate asparagus in one product registration. The affected registration is listed in Table 1 of this Unit. Table 2 of this Unit includes the name and address of record for Gharda.

Unless the Agency receives substantive comments that warrant further review of the request or the registrant withdraws their request, EPA intends to issue a final cancellation order in the Federal Register terminating use on asparagus for the registration in Table 1.

Table 1—Chlorpyrifos Registration With Pending Request for Termination of Asparagus
Registration No. | Product name | Company | Uses to be deleted
93182-8 | Pilot 15G Chlorpyrifos Agricultural Insecticide | Gharda Chemicals International, Inc | Asparagus.

Table 2—Registrant Requesting Voluntary Termination of Asparagus
EPA Company No. | Company name and address
93182 | Gharda Chemicals International, Inc., 4032 Crockers Lake Blvd., Suite 818, Sarasota, FL 34238.

III. What is the Agency's authority for taking this action?

Section 6(f)(1) of FIFRA (7 U.S.C. 136d(f)(1)) provides that a registrant of a pesticide product may at any time request that any of its pesticide registrations be cancelled or amended to terminate one or more registered uses. FIFRA further provides that, before acting on the request, EPA must publish a notice of receipt of any such request in the Federal Register.

Section 6(f)(1)(B) of FIFRA (7 U.S.C. 136d(f)(1)(B)) requires that before acting on a request for voluntary cancellation, EPA must provide at least a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

Gharda has requested that EPA waive the 180-day comment period. Accordingly, EPA is providing a 30-day comment period on the proposed request.

IV. Procedures for Withdrawal of Request

Registrants who choose to withdraw a request for use termination/deletion should submit such withdrawal in writing to the person listed under FOR FURTHER INFORMATION CONTACT.

V. Provisions for Disposition of Existing Stocks

Existing stocks for the product identified in this document are those stocks of registered pesticide product that are currently in the United States and that were packaged, labeled, and released for shipment prior to the effective date of the cancellation action. EPA has determined that the following existing stocks provisions are not inconsistent with the purposes of FIFRA given the limited amount of existing stocks and the limited time allowed for use of the existing stocks outlined below:

• Sale and distribution of existing stocks of Pilot 15G Chlorpyrifos Agricultural Insecticide (EPA Reg. No. 93182-8) is permitted until April 30, 2025.

• Use of existing stocks of Pilot 15G Chlorpyrifos Agricultural Insecticide (EPA Reg. No. 93182-8) must be consistent with the product labeling. Such use is permitted until June 30, 2025.

• Use of existing stocks of Pilot 15G Chlorpyrifos Agricultural Insecticide (EPA Reg. No. 93182-8) for non-food purposes is permitted until existing stocks are exhausted, as long as such use is in accordance with the labeling.

After these dates, all respective sale, distribution, and use of existing stocks is prohibited, except for sale and distribution for export consistent with FIFRA section 17 (7 U.S.C. 136o) and for proper disposal in accordance with state regulations.

Authority: 7 U.S.C. 136 et seq.

Dated: September 9, 2024.
Jean Anne Overstreet,
Director, Pesticide Re-Evaluation Division, Office of Pesticide Programs.

[FR Doc. 2024-20945 Filed 9-13-24; 8:45 am]

BILLING CODE 6560-50-P